DEPARTMENT OF HOMELAND SECURITY

U.S. Customs and Border Protection

DEPARTMENT OF THE TREASURY

19 CFR Part 12

[CBP Dec. 22-05]

RIN 1515-AE71

Import Restrictions Imposed on Categories of Archaeological and Ethnological Material of Nigeria

AGENCY: U.S. Customs and Border Protection, Department of Homeland Security; Department of the Treasury.

ACTION: Final rule.

SUMMARY: This document amends the U.S. Customs and Border Protection (CBP) regulations to reflect the imposition of import restrictions on certain categories of archaeological and ethnological material from the Federal Republic of Nigeria (“Nigeria”). These restrictions are being imposed pursuant to an agreement between the United States and Nigeria that has been entered into under the authority of the Convention on Cultural Property Implementation Act. This document amends the CBP regulations by adding Nigeria to the list of countries which have a bilateral agreement with the United States that imposes cultural property import restrictions. This document also contains the Designated List that describes the types of archaeological and ethnological material to which the restrictions apply.

DATES: Effective on March 17, 2022.

FOR FURTHER INFORMATION CONTACT: For legal aspects, W. Richmond Beevers, Branch Chief, Cargo Security, Carriers and Restricted Merchandise Branch, Regulations and Rulings, Office of Trade, (202) 325-0084, ot-otrrculturalproperty@cbp.dhs.gov. For operational aspects, Julie L. Stoeber, Chief, 1USG Branch, Trade Policy and Programs, Office of Trade, (202) 945-7064, 1USGBranch@cbp.dhs.gov.

SUPPLEMENTARY INFORMATION:

Background

The Convention on Cultural Property Implementation Act, Public Law 97-446, 19 U.S.C. 2601 et seq. (“the Cultural Property Implementation Act”), implements the 1970 United Nations Educational, Scientific and Cultural Organization (“UNESCO”) Convention on the Means of Prohibiting and Preventing the Illicit Import, Export and Transfer of Ownership of Cultural Property (“the Convention” (823 U.N.T.S. 231 (1972)). Pursuant to the Cultural Property Implementation Act, on January 20, 2022, the United States entered into a bilateral agreement with the Federal Republic of Nigeria (“Nigeria”) to impose import restrictions on certain archaeological and ethnological material from Nigeria. This rule announces that the United States is now imposing import restrictions on certain archaeological and ethnological material from Nigeria.

Determinations

Under 19 U.S.C. 2602(a)(1), the United States must make certain determinations before entering into an agreement to impose import restrictions under 19 U.S.C. 2602(a)(2). On March 9, 2021, the Acting Assistant Secretary for Educational and Cultural Affairs, United States Department of State, after consultation with and recommendation by the Cultural Property Advisory Committee, made the determinations required under the statute with respect to certain archaeological and ethnological material originating in Nigeria that is described in the Designated List set forth below in this document.

These determinations include the following: (1) That the cultural patrimony of Nigeria is in jeopardy from the pillage of certain types of archaeological material representing Nigeria's cultural heritage dating from approximately 1500 B.C. to A.D. 1770, and certain categories of ethnological material dating from approximately A.D. 200 to the early 20th century A.D. (19 U.S.C. 2606(a)(1)(A)); (2) that the Nigerian government has taken measures consistent with the Convention to protect its cultural patrimony (19 U.S.C. 2602(a)(1)(B)); (3) that import restrictions imposed by the United States would be of substantial benefit in deterring a serious situation of pillage and remedies less drastic are not available (19 U.S.C. 2602(a)(1)(C)); and (4) that the application of import restrictions as set forth in this final rule is consistent with the general interests of the international community in the interchange of cultural property among nations for scientific, cultural, and educational purposes (19 U.S.C. 2602(a)(1)(D)). The Acting Assistant Secretary also found that the material described in the determinations meets the statutory definition of “archaeological or ethnological material of the State Party” (19 U.S.C. 2601(2)).

The Agreement

On January 20, 2022, the United States and Nigeria signed a bilateral agreement, “Memorandum of Understanding between the United States of America and the Federal Republic of Nigeria Concerning the Imposition of Import Restrictions on Categories of Archaeological and Ethnological Material of Nigeria” (“the Agreement”), pursuant to the provisions of 19 U.S.C. 2602(a)(2). The Agreement entered into force upon signature and enables the promulgation of import restrictions on categories of archaeological material, ranging in date from approximately 1500 B.C. to A.D. 1770, and certain categories of ethnological material, ranging in date from approximately A.D. 200 to the early 20th century A.D., representing Nigeria's cultural heritage. A list of the categories of archaeological and ethnological material subject to the import restrictions is set forth later in this document.

Restrictions and Amendment to the Regulations

In accordance with the Agreement, importation of material designated below is subject to the restrictions of 19 U.S.C. 2606 and § 12.104g(a) of title 19 of the Code of Federal Regulations (19 CFR 12.104g(a)) and will be restricted from entry into the United States unless the conditions set forth in 19 U.S.C. 2606 and § 12.104c of the CBP Regulations (19 CFR 12.104c) are met. CBP is amending § 12.104g(a) of the CBP Regulations (19 CFR 12.104g(a)) to indicate that these import restrictions have been imposed.

Import restrictions listed as 19 CFR 12.104g(a) are effective for no more than five years beginning on the date on which the Agreement enters into force with respect to the United States. This period may be extended for additional periods of not more than five years if it is determined that the factors which justified the Agreement still pertain and no cause for suspension of the Agreement exists. The import restrictions will expire on January 20, 2027, unless extended.

Designated List of Archaeological and Ethnological Material of Nigeria

The Agreement between the United States and Nigeria includes, but is not limited to, the categories of objects described in the Designated List set forth below. Importation of material on this list is restricted unless the material is accompanied by documentation certifying that the material left Nigeria legally and not in violation of the export laws of Nigeria.

The Designated List includes archaeological and ethnological material from Nigeria. The archaeological material in the Designated List includes, but is not limited to, objects made of ceramic/terracotta, stone, metal, and organic material ranging in date from approximately 1500 B.C. through A.D. 1770. The ethnological material in the Designated List includes, but is not limited to, objects used in or associated with religious activities, part of community or ancestral shrines, and/or royal or chiefly activities, including beads and beaded garments, figures, ivory and bone, leather and parchment, masks and headdresses, metals, stone, ceramic/terracotta, wood, paintings, and other ceremonial and ritual objects from the Edo (includes Benin), Ejagham, Hausa, Mumuye, Owo, Yoruba, and other cultural and ethnic groups, ranging in date from approximately A.D. 200 through the early 20th century A.D. Dates and dimensions are approximate.

Categories of Archaeological and Ethnological Material

I. Archaeological Material

A. Ceramic/Terracotta/Fired Clay

B. Stone

C. Metal

D. Organic Material

II. Ethnological Material

A. Beads and Beaded Garments

B. Figures

C. Ivory and Bone

D. Leather and Parchment

E. Masks and Headdresses

F. Brass and Bronze

G. Iron

H. Stone

I. Ceramic/Terracotta

J. Wood

K. Paintings

Approximate simplified chronology of well-known periods:

(a) Iron Age period (500 B.C. through A.D. 1000), including Nok (1500 B.C. through 0 B.C.), Katsina (500 B.C. through A.D. 200), Sokoto (500 B.C. through A.D. 200), Calabar (500 B.C. through A.D. 1200), and Bakor (A.D. 200 through 500).

(b) Medieval to Precolonial period (A.D. 900 through 1900), including Igbo-Ukwu (c. A.D. 900), Ife (A.D. 1100 through 1500), Esie (A.D. 1200 through 1500), and Owo (c. A.D. 1400).

(c) Colonial period (A.D. 1900 to 1960).

I. Archaeological Material

Archaeological material covered by this Agreement is associated with cultural groups who occupied Northern and Southern Nigeria from the Early Nok period in the Late Stone Age (1500 B.C.) through the Medieval and Precolonial periods (A.D. 1770). Examples of archaeological material covered by the Agreement include objects from well-known culture areas/archaeological sites, including yet to-be-discovered types of archaeological material.

A. Ceramic/Terracotta/Fired Clay

1. Anthropomorphic Figures—Terracotta anthropomorphic figures include heads and full-length human shapes. Human figures may be natural or stylized in appearance. Anthropomorphic figures covered by the Agreement include, but are not limited to, figures from the following cultures:

a. Calabar Culture—Anthropomorphic figures from the Calabar culture were crafted from coiled clay with a coarse texture. Height varies, typically between 15 cm and 50 cm. Forms may be closed with a base, body, neck, and head. The body may resemble an elongated, globular vase with the head enclosing the rim of the vase. Horizontal bands may differentiate the base from the body, neck, and head. Bases are usually undecorated. Bodies are typically divided into vertical sections and decorated with raised patterns and shapes including basket weaves, cross hatching, incisions, herringbone, roped designs, zig zags, and others. Anthropomorphic faces are compressed, while the head/hairstyle decorations tend to be more elaborate, typically with coiled or braided designs and headgear, although some may be bald. It may be hard to distinguish male from female figures in Calabar anthropomorphic vessels.

b. Nok Culture—Anthropomorphic figures and heads from the Nok culture tend to be stylized and represent children and adults. Height varies widely from miniatures to life size. Postures vary with figures in half-kneeling, kneeling, sitting, or standing forms. Gestures include bent arms, crossed arms, holding an animal by the neck, or holding an object. Figures may have some clothing, such as belts/loincloths with creases and overlapping fabric that may be decorated with patterns and fringe; they may be elaborately adorned with representations of roped strands of beads at the abdomen, chest, and/or feet. Faces may have dented or pierced ears, lips, nostrils, and pupils; eyes are triangular or D-shaped and are disproportionally large. Eyebrows are arched. Some Nok mouths have stylized teeth. Hairstyles can be elaborate with several buns. Foreheads may have incisions, likely representing scarification. Some Nok figures may have a diseased appearance represented by facial features, including paralysis or elephantiasis. Feet are bare. Fingernails and toenails may be realistic or represented with triangular cuts on the nail bed. Many Nok figures are found in disarticulated or in fragmentary forms.

c. Ife Culture—Anthropomorphic figures and heads from the Ife culture tend to be naturalistic and made of terracotta, typically 9 cm to 35 cm tall. Ife figures tend to be symmetrical and may be freestanding. Some Ife figures may have caps or crowns in multiple tiers. Ife facial characteristics include, but are not limited to, vertical striations on the face, overhanging corners of the upper and lower eyelid, impressed corners of the mouth, and grooves around the neck.

d. Owo Culture—Anthropomorphic figures and heads from the Owo culture tend to be naturalistic and made of terracotta. Owo figures may be adorned with caps or headdresses, armbands or bracelets, belts, and/or collars. Owo figures may have triangular fingernails and toenails. Owo figures may hold decapitated or whole animals, including cocks, elephants, lizards, rams, or other animals.

e. Sokoto Culture—Anthropomorphic figures from the Sokoto culture are stylized and tend to have elongated, cylindrical bodies with molded heads. Sokoto faces have U-shaped drooping eyelids with pierced eyes and incisions that outline the eye; nostrils may be pierced, and mouths may be slightly agape. Sokoto figures may have elaborate hairstyles with several buns and beards. Navels are prominent and herniated. Figures may have attached and bent arms, and may be holding objects such as adzes, staffs, or weapons. Figures may be wearing banded necklaces with pendants.

f. Katsina Culture—Anthropomorphic figures from the Katsina culture are stylized. Katsina figures are often attached to the top of a globular jar or bell-shaped urn. Katsina positions often have hands resting on knees. Heads tend to wear caps.

2. Zoomorphic Figures—Figures in the shape of animals made from terracotta/fired clay include freestanding whole figures and animal heads. Figures may be stylized or naturalized. Animals represented may include, but are not limited to, apes, chameleons, dogs, frogs, goats, leopards, mudfish, monkeys, owls, rams, and snakes. Some zoomorphic figures may be perched on top of bell-shaped urns. Eyes may be carved from incisions, and there may be pierced holes for the eyes or the ear cavity.

3. Vessels—Types, forms, and decoration of terracotta vessels vary among archaeological styles over time. Shapes include bowls, bowls with lids, jars, stands, and effigy vessels. Jars often have globular bases with everted or cylindrical rims. Jars may have elongated forms. Decorative styles on the exterior of jars and stands vary and may be high- or low-relief elements. Decorative elements on the exterior of jars and stands may include low-relief elements, such as cross hatches, incisions, stamps, braided roulette, or twisted roulette. High-relief elements may include naturalistic heads, stylized heads, manillas, mudfish, other aquatic animals, snakes, sacrificial offerings, stylized architectural elements, geometric shapes, and/or stylized plant or vegetal elements. Nok vessels may have multiple anthropomorphic forms added in high-relief to the exterior of the vessel. Nok vessels may also have stylized heads carved into the exterior of the vessel with many of the same attributes found in the figures, including, but not limited to, arched eyebrows and D-shaped eyes.

4. Headrests—Terracotta headrests may have a triangular or trapezoidal shape. Headrests vary in height but are typically 12 cm tall and 45 cm in length. Headrests are composed of a base, body, neck, and curved or slightly concave horizontal top. Bases and curved horizontal tops tend to be undecorated. Bodies of headrests are elaborately decorated with elements, such as cross hatches, incisions, and/or stamps. Negative areas may be cut from the body of the headrest leaving interlocked geometric designs, including, but not limited to, chevrons or cruciforms. Headrests from the Calabar culture are a good example of the style.

5. Stelae/Funerary Urns—This category includes stelae and urns from funerary/burial contexts from the Dakakari and Katsina cultures. Urns and stelae are normally 70 cm in height. Shapes are typically complex with a circular base with vertical pillars supporting a circular or disc-shaped top. Disc-shaped tops may be decorated with a geometric design, human or animal faces, or body parts. There may be surface decoration, including incisions, piercing, stamping, or others.

B. Stone

1. Monoliths—Monoliths (e.g., Akwanshi, Cross River, Ejagham, Bakor, and Ikom) are typically carved from basalt, and range in height from 50 cm to 2 m. Monoliths vary and may be carved in either a column or boulder-like form. Monoliths are carved and can have both low- and high-relief elements. Most monoliths represent male figures, but there are also examples of female and animal figures. Some monoliths have well defined facial features with beards, headdresses, or hairstyles, and may have complex, linear patterns on the face and torso. The head and torso of the monolith are often differentiated with a V-shaped groove or ridge. The torso often has a protruding navel.

2. Figures—Stone Figures (e.g., Esie soapstone) are usually carved from steatite or soapstone. Soapstone figures come from Yoruba villages, including Esie, Ijara, and Ofaur. Figures feature animals, children, and adult figures, often seated on a stool or kneeling on a circular base. Figures are typically 20 cm to 120 cm in height. Most soapstone figures have elaborate hairstyles, conical headdresses, or helmets. Headdresses and hats may be decorated with chevrons, leaves, rosettes, and/or tassels. Facial features are naturalistic with outlined eyes, flared nostrils, and an elongated bridge on the nose. There may be striations on the face, including three striations on the temple, vertical lines on the chin, or three lines on the forehead. Female figures have three or four marks on the nape of the neck. Figures are typically adorned with necklaces and bracelets. Female figures may be holding swords and males may have quivers with arrows.

3. Beads—Stone beads may be crafted from carnelian, chalcedony, or other crypto-crystalline silicates, jasper, or quartz. Bead forms may be cylindrical, approximately 2 cm in length. Beads may also be rod or ring-shaped.

4. Axes (nyame akuma)—Groundstone or polished axes (nyame akuma) have elongated forms, and, in their cross-section, are tear-drop shaped. Axes often measure 6 cm in length or less, but can measure up to 20 cm. Most groundstone axes are crafted from fine-grained volcanic or siliceous rock, sometimes with a banded pattern in the raw material.

C. Metal

1. Brass and Bronze—There are three types of alloys typically used in archaeological metal sculpture, vessels, and ornaments from Nigeria: (1) Copper or zinc brass; (2) leaded bronze copper with tin and lead; and (3) bronze made from copper alloys, such as copper and tin, or copper and lead. Despite this variation, Nigerian sculpture is often referred to interchangeably as brass and bronze.

a. Anthropomorphic Figures—Examples of anthropomorphic brass and bronze figures include, but are not limited to, the following:

i. Ife Brass and Bronze Figures—These include life-sized heads (sometimes with necks), masks, and full-length figures. Ife brass and bronze figures may have naturalistic features. There may be vertical striations covering the face, and in some cases on the bottom lip. There may be horizontal lines around the circumference of the neck. There may be perforations along the hairline, jawline, around the mouth, under the ears, and on the neck. Ife brass and bronze figures may have caps, crowns, or headdresses.

ii. Bronze Figures from Lower Niger Region—Bronze figures from the Lower Niger region (e.g., Tsoede and Jebba Island) are full-length figures that typically range from 40 cm to 120 cm. Lower Niger bronzes are less naturalistic and more stylized than Ife brasses and bronzes. Figures may depict hunters, priests, warriors, or other roles. Facial features include heavily outlined and wide bulging eyes, kidney shaped mouth, compact body, wide tubular legs, and flat feet set on a pedestalled base. Lower Niger figures may have elaborate caps, crowns, or headdresses. Headdress decorations may include beads, decorative disks, horns, or small anthropomorphic or zoomorphic figures. Some carry or hold shields or staffs, or have clasped hands. Figures are often adorned with necklaces and anklets. Some may be wearing full-body tunics or belted skirts/wrappers cinched at the waist. Some may be composite of a horse and rider.

b. Zoomorphic Figures—Igbo Ukwu zoomorphic brass and bronze figures include stylized animal figures that may represent whole animals or partial animal parts, typically the head or skull. Zoomorphic figures include birds, elephants, leopards, rams, snakes, and others. Zoomorphic figures are ornately and densely decorated with encrusted designs and patterns. Geometric decorative elements can include basketweave patterns, discs, granulation, raised knobs or loops, spirals, meshwork with interlocking chevrons, metal threads, and waves. Organic decorative elements can include images of beetles, birds, eggs, flies, grasshoppers, leopards, shells, snakes, and stylized plants and flowers. Trumpet-shaped decoration can surround animal skulls.

c. Vessels—Igbo-Ukwu vessels were cast in brass and bronze using the lost-wax method (cire perdu). Vessels come in many forms, including open and closed forms of bowls, cups, jars, stands, and composite shapes mirroring shells and calabashes. Vessel height typically varies between 12 cm to 35 cm. Vessel decoration can vary from organic to geometric shapes. Igbo-Ukwu vessels are elaborately and ornately decorated with encrusted designs and patterns. Geometric decorative elements can include basketweave patterns, discs, granulation, raised knobs or loops, spirals, meshwork with interlocking chevrons, metal threads, and waves. Organic decorative elements can include images of beetles, birds, flies, grasshoppers, leopards, shells, snakes, and stylized plants and flowers. Decorative elements can be in either high- or low-relief forms. Some vessels may have handles on one or two sides of the body or top. Blue, red, and yellow glass beads are sometimes attached to the exterior of vessels.

d. Ornaments—Examples of ornaments include, but are not limited to, the following:

i. Igbo-Ukwu Brass and Bronze Ornaments—These include, but are not limited to, altar stands, animals, bells, eggs, fly whisks, human figures, miniature heads, pendants, scabbards, shells, and staff toppers. Decorative forms may be a composite with multiple figures (for example, a horse and rider, snake and pangolin, snake and frog, or others). Ornament sizes vary, but they are typically between 6 cm to 50 cm in height. Ornaments tend to be ornately and densely decorated with encrusted designs. Decorative elements include, but are not limited, to basketweave patterns, discs granulation, incisions, interlocking geometric designs, raised knobs or loops, and spirals. Blue, red, and yellow glass beads are sometimes attached to the exterior of ornaments.

ii. Lower Niger Ornaments—These include brass and bronze bells. Ornament sizes vary, but they are typically between 10 cm to 20 cm in height. Bells have conical shapes. Bells may have either stylized human or animal faces with flared lips, protruding eyes, and striations on the forehead and/or near the mouth. There may be ears protruding from the conical body of the bell. There may be a loop on top of the bell that allowed bells to be fastened to other objects.

2. Iron—Iron objects include, but are not limited to, ceremonial swords, jewelry (e.g., anklets, armlets, and bracelets), knives, projectiles, staffs, and other hand-held implements.

D. Organic Material

This category includes bone, ivory, leather, textiles, and wood from archaeological contexts, such as human remains, animal remains, basketry, burial shrouds, containers, garments, figurines, textiles, tools, and vessels.

II. Ethnological Material

Ethnological material covered by the Agreement includes, but is not limited to, objects that were used in religious activities, part of community or ancestral shrines, and/or used in royal or chiefly activities. Objects are associated with many cultures and civilizations ranging in date from approximately 200 A.D. through the early 20th century A.D. Nigeria's cultures, cultural complexes, and polities include groups, such as the Afo, Bassa-Nge, Benin, Bokyi, Chamba, Cross River Basin Peoples, Dakakari, Edo, Ekoi, Hausa, Ibibio, Idoma, Igala, Igbo, Ijaw, Ijo, Fulani, Jukun, Kanem-Borno, Mambila, Mama, Montol, Mumuye, Nupe, Ogoni, Okpoto, Sokoto, Tiv, Wamba, Verre, and Yoruba.

A. Beads and Beaded Garments

Beads and beaded garments include, but are not limited to, boots, caps, crowns, dance panels, diviner's bags, garments for altar figures, gowns, footrests, leggings, fly whisks, scepters, and sheaths for ceremonial swords and other hand-held royal or chiefly implements, such as staffs used in or associated with religious activities, community or ancestral shrines, and/or royal or chiefly activities.

B. Figures

Figures come in many forms and were crafted from different types of material, such as terracotta/fired clay, stone, and wood. Figures tend to depict humans, human heads, and animals, and may be naturalistic or stylized. Figures include, but are not limited to, figures made by Afo artists, Chamba figures, Ekpu figures, Ibeji figures, Igbo ancestor and shrine figures, Ijo figures, Jukun figures, Mbembe figures, Ogboni figures, Oron figures, Mumuye figures, Urhobo figures, Verre figures, Yoruba figures, ecclesiastical figures, and others used in or associated with religious activities, community or ancestral shrines, and/or royal or chiefly activities. Signs of wear depend on the intended use of the object and range from well-preserved surfaces to worn and/or encrusted surfaces.

C. Ivory and Bone

Ivory and bone objects come in many forms, including, but not limited to, altar pieces, boxes, bowls, bracelets, ceremonial swords, costume attachments, divination tappers, ecclesiastical objects, figures, gongs, horns/trumpets, masks, paddles, pendants, rattles, salt cellars, spoons, staffs, staff heads, vessels, and other objects. Ethnological objects made from ivory include Afro-Portuguese ivories, which are ornately carved and often in the form of salt cellars, trumpets, spoons, pendants, or vessels. Ivory and bone objects are typically associated with the Edo, Owo, and Yoruba cultures, and date approximately from the 15th through the 19th centuries A.D.

D. Books and Manuscripts

Secular and religious Islamic texts, manuscripts, and portions of manuscripts, including but not limited to, Qur'ans, commentaries, essays, letters, poetry, treatises, and other documents spanning the subjects of astronomy, chronicles, ethics, history, Islamic philosophy, law, literature, prophetic traditions, secret arts, Sufism, and related subjects. Books and manuscripts may be in sheets or in bound volumes, and may be decorated with colorful, geometric, or organic designs. Text is handwritten on paper and may be gathered into leather folios, and may be written in Arabic, Ajami, Hausa, or Fulfulde scripts.

E. Masks and Headdresses

Masks and headdresses were typically created in three forms: (1) Helmet-style; (2) facemasks; and (3) headcrests (worn on the top of the head). Masks and headdresses may show signs of use from being worn, used repeatedly, and fastened to the wearer. They may be crafted from brass/bronze, coconut shells, iron, ivory, leather, raffia, wood, vegetable fibers, or a combination of materials. They may be carved and ornamented with decorative and symbolic motifs. Beads, bells, and/or shells may be attached. They may be carved and decorated to represent human, animal, and composite forms (e.g., horse and rider). Some masks, like those of the Yoruba and the Igbo region, may be painted with vibrant colors. Masks may also come in Janus style (double-sided) or plank forms. Masks may have been worn by men, women, and children. Masks may be encrusted with layers of clay, kaolin, ochre, soil, or sediment. Examples of masks include those used in or associated with religious activities and/or royal or chiefly activities, such as face masks from Bassa-Nge, Ibibio, and Yoruba, helmet masks from Ejagham, Igala, and Mambila, or crest masks or headdresses from Bokyi, Ejagham, Ekoi, Ibibio, Idoma, Igbo, Ijo, Mama, and Yoruba.

F. Brass and Bronze

There are three types of alloys typically used in ethnological metal sculpture from Nigeria: (1) Copper or zinc brass; (2) leaded bronze copper with tin and lead; and (3) bronze made from copper alloys, such as copper and tin or copper and lead. Despite this variation, Nigerian sculpture is often referred to interchangeably as brass and bronze. Benin Bronzes are the best-known examples. Examples of Benin Bronzes includes, but are not limited to, the following:

1. Anthropomorphic Figures—Benin Bronzes come in a variety of anthropomorphic forms, including free standing heads, heads on pedestalled bases, free standing full-length human figures, and full-length human figures on pedestalled bases. Head height varies, typically between 20 cm to 55 cm. Features may be both naturalized and stylized. Heads may have a wide and cylindrical shape, cheeks may be swollen, and eyes may be enlarged. Heads have representations of regalia including tight-fitting collars that do not cover the chin or beaded collars that cover the neck and chin reaching the lower lip. Heads may have caps, conical hats, crowns, elaborate hairstyles, or helmets. Beads may hang above the eyes. Wing-like feathers and/or horizontal bars may project from the side of headgear and crowns. Full-length Benin bronze figures vary in height, typically between 40 cm and 65 cm. Full-length figures can be free standing or on a pedestalled base. The position is typically asymmetrical as some figures hold side-blown trumpets, staffs, weapons, or other objects. Figures are often adorned with necklaces, bracelets, and caps, elaborate hairstyles, helmets, or other headgear. Male figures often wear skirts/wrappers tied around the waist. Some full-length figures have “cat-whisker” scarification protruding from the mouth. Some are composite figures, such as a full-length figure of a horse and rider.

2. Zoomorphic Figures—Zoomorphic Benin bronze figures include freestanding animals and animals on pedestalled bases, including, birds, fish, horses, leopards, rams, roosters, snakes, and others. They may be stylized and include both whole and partial animal figures. Figures tend to have decorated bodies with feathers, scales, or spots. Some figures may have once been part of decorative architectural elements, including turrets. Height varies, typically from 30 cm to 60 cm. Pedestalled bases may be decorated with braided geometric and organic designs.

3. Ornaments—Benin brass and bronze ornaments include, but are not limited to, altar ornaments/stands, anklets, bells, bracelets, discs, figures, finials, flasks, hip ornaments, horns/trumpets, lamps, masks, miniature crowns, pot stands, rings, stools, staffs, and staff toppers. Ornaments were cast using the lost-wax cast method and tend to be ornately decorated with both high- and low-relief elements. Decorative elements include, but are not limited to, basketweave patterns, chains, incisions, interlocking geometric designs, organic designs, raised knobs or loops, spirals, waves, and others. Decorative forms may include human heads and full-length figures. Some ornaments may incorporate animal designs into the body of the piece with birds, crocodiles, frogs, horses, mudfish, snakes, and other animal designs.

4. Plaques—Benin bronze plaques were cast using the lost-wax method. Plaques come in rectangular, pendant, and pectoral forms. Rectangular plaques tend to be slightly taller than wider, with height varying between 40 cm to 50 cm and width varying between 30 cm to 45 cm. Pendant and pectoral plaques tend to be semicircular. The dimensions of pendant or pectoral plaques vary, typically with a height and width varying between 15 cm to 40 cm. Plaques tend to be ornately decorated with both naturalistic and stylized elements. The backgrounds may have low-relief geometric and organic elements, including circles, dots, flowers, petals, quatrefoils, and other designs. High-relief decorative elements often include a prominent full-length human figure, often flanked by two or more figures that may be smaller in size. Human figures are often adorned in ceremonial dress including anklets, armor, bracelets, decorated skirts/wrappers and tunics, necklaces, and other objects. Crowns are common on the main figure and have many of the same decorative elements as the Benin bronze memorial heads, such as feathers and horizontal bars protruding from the temple. Some human figures may have facial hair. Smaller figures may carry shields, staffs, trumpets, and other weapons. Other high-relief decorative elements include birds, crocodiles, insects, fish, snakes, trees, and others.

5. Vessels—Benin brass and bronze vessels were cast in bronze using the lost-wax method. Vessels come in many forms, including open and closed forms of bowls, lidded bowls, cups, jars, jugs, lidded jars, and stands. Sizes vary, typically between 7 cm and 40 cm. Vessels are typically elaborately decorated with high- and low-relief elements and with both naturalistic and stylized elements. The vessels' backgrounds may have low-relief geometric and organic elements, including arches, circles, dots, leaves, flowers, interlocking geometric designs, petals, quatrefoils, and other designs. High-relief elements on vessels include human and animal figures such as leopards, frogs, mudfish, snakes, snails, tortoises, and others.

G. Iron

This category includes iron objects, such as axes, ceremonial currency, ceremonial swords and knives, spears, staffs, swords, and other weapons used in or associated with religious activities, community or ancestral shrines, and/or royal or chiefly activities. Iron implements vary in size, typically between 30 cm and 110 cm in height. Ceremonial swords have fan-shaped blades. Blades may be curved or pointed. Axes and ceremonial currency may have simple or ornate curved blades that were not intended to be used, and may not have been created for a utilitarian purpose. Blades may have dulled edges, and forms are typically more delicate and ornate than utilitarian tools, projectiles, and weapons. While the blades are forged from iron, the hilt, pommel, and grip may be crafted from bone, brass, bronze, copper, ivory, or wood.

H. Stone

1. Monoliths—Monoliths (e.g., Akwanshi, Cross River, Ejagham, Bakor, and Ikom) are typically carved from basalt, and range in height from 50 cm to 2 m. Monoliths vary and may be carved in either a column or boulder-like form. Monoliths are carved and can have both low- and high-relief elements. Most monoliths represent male figures, but there are also examples of female and animal forms. Some monoliths have well-defined facial features with beards, headdresses or hairstyles, and they may have complex, linear patterns on the face and torso. The head and torso of the monolith is often differentiated with a V-shaped groove or ridge. The torso often has a protruding navel.

2. Figures—Stone figures (e.g., Esie soapstone) are usually carved from steatite or soapstone. Soapstone figures come from Yoruba villages, including Esie, Ijara, and Ofaur. Figures feature animals, children, and adult figures, often seated on a stool or kneeling on a circular base. Figures are typically 20 cm to 120 cm in height. Most soapstone figures have elaborate hairstyles, conical headdresses, or helmets. Headdresses and hats may be decorated with chevrons, leaves, rosettes, and/or tassels. Facial features are naturalistic with outlined eyes, flared nostrils, and an elongated bridge on the nose. There may be striations on the face, including on the temple, chin, and/or forehead. Female figures often have three or four marks on the nape of the neck. Figures are typically adorned with necklaces and bracelets. Female figures may be holding swords and males may have quivers with arrows and a helmet with a shape of a bird.

I. Terracotta/Fired Clay

This category includes ceramic or terracotta vessels, figures, and objects used in or associated with cemeteries, religious activities, community or ancestral shrines, and/or royal or chiefly activities in Dakakari, Edo, Yoruba, and other cultures.

1. Anthropomorphic Figures—Examples include anthropomorphic figures from the Edo cultures, which tend to have both naturalized and stylized characteristics. Height varies, typically between 9 cm and 25 cm. Terracotta ceremonial or commemorative heads share similar characteristics to the anthropomorphic bronze figures described in section I.F.1. of this Designated List. Heads may have a wide and cylindrical shape, cheeks may be swollen, and eyes may be enlarged. Heads include representations of regalia including tight-fitting collars that do not cover the chin to beaded collars that cover the neck and chin reaching the lower lip. Terracotta heads may have caps, conical hats, crowns, elaborate hairstyles, or helmets. Beads or incisions may hang above the eyes. Heads may have a hollow core.

2. Zoomorphic Figures—Examples include zoomorphic figures from the Edo cultures, which tend to have stylized characteristics. Height varies, typically between 9 cm and 25 cm. Edo zoomorphic figures tend to feature singular heads of animals such as leopards, rams, or other animals. Eyes and pupils tend to be incised. Heads may have a hollow core.

3. Funerary Stelae/Figures—Funerary stelae and figures from the Dakakari culture tend to be stylized and include anthropomorphic figures, zoomorphic figures, or composite figures, such as a horse and rider. Height varies, typically between 30 cm and 50 cm. Anthropomorphic and zoomorphic figures tend to be positioned on top of a bell-shaped or spherical base. Bodies tend to be cylindrical with truncated limbs. Eyes may be represented by linear slits that puncture the terracotta, while the nostrils and mouths may be punctured with more rounded holes. Animal figures tend to have elongated, quadruped limbs.

J. Wood

1. Architectural Elements—This category includes doors, door fixtures, houseposts, and veranda posts from religious buildings, including churches and shrines, and royal buildings, which were used in or associated with religious activities, community or ancestral shrines, and/or royal or chiefly activities. Architectural pieces may be ornately carved with high-relief decorations.

2. Ceremonial and Religious Wood—This category includes altar pieces, altar stands, ceremonial bowls, ceremonial boxes, divination trays, divination vessels, drums, gong rasps, masquerade ornaments, missal stands, offering bowls, prayer boards, Qur'an boxes, staffs, staff heads, stools, and other objects used in or associated with religious activities, community or ancestral shrines, and/or royal or chiefly activities.

K. Rock Art

Incised, engraved, pecked, or painted drawings on natural rock surfaces. Decoration includes human figures, animal figures (in particular, cattle, sheep, and short horned bulls), and geometric symbols.

References

Dynasty and Divinity: Ife Art in Ancient Nigeria, 2009, Henry John Drewel and Enid Schildkrout, Getty Foundation with the Museum for African Art, New York.

Early Art and Architecture of Africa, 2002, Peter Garlake, Oxford University Press, Oxford.

From Shrines to Showcases: Masterpieces of Nigerian Art, 2008, Ekpo Eyo, Ministry of Information and Communication, Abuja.

Gelede: Art and Female Power Among the Yoruba, 1983, Henry John Drewal and Margaret Thompson Drewal, Indiana University Press, Bloomington.

Nok: African Sculpture in Archaeological Context, 2013, Peter Brunig, Goethe-Universität and Africa Magna Verlag, Frankfurt.

Sculptures: Africa, Asia, Oceania, Americas, 2020, Reunion des Musees Nationaux: Musee de quai Branly, Paris.

The Royal Arts of Africa: The Majesty of Form, 1998, Suzanne Blier, Callman King; Prentiss Hall, London and New York.

Treasures of Ancient Nigeria, 1980, Ekpo Eyo and Frank Willett, Alfred Knopf with the Detroit Institute of Art, New York.

Yoruba Beadwork: Artwork of Nigeria, 1980, William Fagg, Rizzoli International Publications, New York.

Inapplicability of Notice and Delayed Effective Date

This amendment involves a foreign affairs function of the United States and is, therefore, being made without notice or public procedure under 5 U.S.C. 553(a)(1). For the same reason, a delayed effective date is not required under 5 U.S.C. 553(d)(3).

Regulatory Flexibility Act

Because no notice of proposed rulemaking is required, the provisions of the Regulatory Flexibility Act (5 U.S.C. 601 et seq.) do not apply.

Executive Order 12866

CBP has determined that this document is not a regulation or rule subject to the provisions of Executive Order 12866 because it pertains to a foreign affairs function of the United States, as described above, and therefore is specifically exempted by section 3(d)(2) of Executive Order 12866.

Signing Authority

This regulation is being issued in accordance with 19 CFR 0.1(a)(1) pertaining to the Secretary of the Treasury's authority (or that of his/her delegate) to approve regulations related to customs revenue functions.

Chris Magnus, the Commissioner of CBP, having reviewed and approved this document, has delegated the authority to electronically sign this document to Robert F. Altneu, who is the Director of the Regulations and Disclosure Law Division for CBP, for purposes of publication in the Federal Register.

List of Subjects in 19 CFR Part 12

Cultural property, Customs duties and inspection, Imports, Prohibited merchandise, and Reporting and recordkeeping requirements.

Amendment to the CBP Regulations

For the reasons set forth above, part 12 of title 19 of the Code of Federal Regulations (19 CFR part 12), is amended as set forth below:

PART 12—SPECIAL CLASSES OF MERCHANDISE

1. The general authority citation for part 12 and the specific authority citation for § 12.104g continue to read as follows:

Authority: 5 U.S.C. 301; 19 U.S.C. 66, 1202 (General Note 3(i), Harmonized Tariff Schedule of the United States (HTSUS)), 1624;

* * * * *

Sections 12.104 through 12.104i also issued under 19 U.S.C. 2612;

* * * * *

2. In § 12.104g, the table in paragraph (a) is amended by adding an entry for “Nigeria” in alphabetical order to read as follows:

§ 12.104g Specific items or categories designated by agreements or emergency actions.

(a) * * *

State party | Cultural property | Decision No.
* * * * * * *
Nigeria | Archaeological material of Nigeria ranging from approximately B.C. 1500 to A.D. 1770, and ethnological material of Nigeria ranging from approximately A.D. 200 to the early 20th century A.D. | CBP Dec. 22-05
* * * * * * *

* * * * *

Robert F. Altneu,
Director, Regulations & Disclosure Law Division, Regulations & Rulings, Office of Trade U.S. Customs and Border Protection.
Approved:
Timothy E. Skud,
Deputy Assistant Secretary of the Treasury.

[FR Doc. 2022-05681 Filed 3-16-22; 8:45 am]

BILLING CODE 9111-14-P